DEPARTMENT OF HEALTH AND HUMAN SERVICES

Office of the Secretary

Findings of Scientific Misconduct

AGENCY: Office of the Secretary, HHS.

ACTION: Notice.

SUMMARY: Notice is hereby given that the Office of Research Integrity (ORI), the Acting Assistant Secretary for Health, and another Federal agency have taken final action in the following case:

Jason W. Lilly, Ph.D., Boyce Thompson Institute: Based on the report of an investigation conducted by the Boyce Thompson Institute (BTI Report), the investigation report of another Federal agency, and additional analysis conducted by ORI in its oversight review, the U.S. Public Health Service (PHS) found that Jason W. Lilly, Ph.D., former postdoctoral fellow at BTI, engaged in scientific misconduct in research supported by the National Research Service Award, National Institutes of Health (NIH) postdoctoral fellowship, F32 GM64276. This case has been jointly handled by ORI and another Federal agency under the government-wide debarment regulations.

Specifically, PHS found that:

A. Dr. Lilly falsified Figure 4, presenting a hierarchical cluster analysis of differential mRNA accumulation in cells grown in medium deficient in sulfate or phosphate in “The Chlamydonomas reinhardtii organellar genomes respond transcriptionally and post-transcriptionally to abiotic stimuli,” The Plant Cell 14:2681:2706, 2002 (hereafter referred to as the Plant Cell paper) by claiming it was an average of three experiments when only one had been conducted;

B. Dr. Lilly further falsified Figure 4 of the Plant Cell paper by falsely coloring two cells in the blown-up portion of the figure that illustrated the induction of high levels of mRNA from the Sac1 gene;

C. Dr. Lilly falsified the supplemental gene array experiments published online claimed to be replicate assays by manipulation of both spreadsheet and image data from a single assay to make the altered data sufficiently different to appear to be separate assays;

D. Dr. Lilly falsified the text describing Figure 5 of the Plant Cell paper by claiming that the run-on assays had been replicated when they had not been;

E. Dr. Lilly falsified the purported replicates of run-on transcription experiments provided in the on-line supplemental material by manipulation of a single assay to make the variant versions appear different; and

F. Dr. Lilly falsified Figure 1 of the Plant Cell paper by using the same 16S control bands for RNA blots of two different genes (psbF and PsaG).

Dr. Lilly has been debarred by the lead agency for a period of two (2) years, beginning on March 4, 2005, and ending on March 4, 2007, and has entered into a Voluntary Exclusion Agreement (Agreement ) with PHS in which he has voluntarily agreed:

(1) To exclude himself from serving in any advisory capacity to PHS including but not limited to service on any PHS advisory committee, board, and/or peer review committee, or as consultant, for a period of four (4) years, beginning on April 18, 2005; and

(2) That he will ensure that any institution employing him submits, in conjunction with each application for PHS funds or report, manuscript, or abstract of PHS funded research in which Dr. Lilly is involved, a certification that the data provided by Dr. Lilly are based on actual experiments or are otherwise legitimately derived, and that the data, procedures, and methodology are accurately reported in the application or report for a period of two (2) years, beginning on April 18, 2007, approximately corresponding to the termination date of the debarment period initiated by the lead agency. Dr. Lilly must ensure that the institution also sends a copy of the certification to ORI.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 05-11017 Filed 6-2-05; 8:45 am]

BILLING CODE 4150-31-P